NUCLEAR REGULATORY COMMISSION

[NRC-2019-0112]

Biweekly Notice; Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from April 9, 2019, to April 22, 2019. The last biweekly notice was published on April 23, 2019.

DATES: Comments must be filed by June 6, 2019. A request for a hearing must be filed by July 8, 2019.

ADDRESSES: You may submit comments by any of the following methods (unless this document describes a different method for submitting comments on a specific subject):

• Federal Rulemaking Website: Go to http://www.regulations.gov and search for Docket ID NRC-2019-0112. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Janet Burkhardt, Office of Nuclear Reactor Regulation, U.S. Nuclear Regulatory Commission, Washington, DC 20555-0001; telephone: 301-415-1384; email: Janet.Burkhardt@nrc.gov.

SUPPLEMENTARY INFORMATION:

I. Obtaining Information and Submitting Comments

A. Obtaining Information

Please refer to Docket ID NRC-2019-0112, facility name, unit number(s), plant docket number, application date, and subject when contacting the NRC about the availability of information for this action. You may obtain publicly-available information related to this action by any of the following methods:

• Federal Rulemaking Website: Go to http://www.regulations.gov and search for Docket ID NRC-2019-0112.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0112, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (First Floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Duke Energy Progress, LLC, Docket Nos. 50-325 and 50-324, Brunswick Steam Electric Plant, Units 1 and 2, Brunswick County, North Carolina

Date of amendment request: February 27, 2019. A publicly-available version is in ADAMS under Accession No. ML19058A768.

Description of amendment request: The proposed amendments would modify Technical Specification (TS) 5.5.12 to allow extension of the Type A and Type C test intervals. The extension is based on the adoption of the Nuclear Energy Institute (NEI) topical report NEI 94-01, “Industry Guideline for Implementing Performance-Based Option of 10 CFR part 50, Appendix J,” Revision 3-A, dated July 2012, and conditions and limitations set forth in NEI 94-01, Revision 2-A, dated October 2008. The proposed amendments would also make administrative changes to TS 5.5.12.

Basis for proposed no significant hazards consideration determination: As required by 10 CFR 50.91(a), the licensee has provided its analysis of the issue of no significant hazards consideration, which is presented below:

1. Does the proposed change involve a significant increase in the probability or consequences of an accident previously evaluated?

Response: No.

The proposed activity involves the revision of the Brunswick Steam Electric Plant (BSEP) Units 1 and 2 Technical Specification (TS) 5.5.12, Primary Containment Leakage Rate Testing Program, to allow the extension of the Type A integrated leakage rate test (ILRT) containment test interval to 15 years, and the extension of the Type C test interval to 75 months. Per the guidance provided in Nuclear Energy Institute (NEI) 94-01, Industry Guideline for Implementing Performance-Based Option of 10 CFR 50, Appendix J, Revision 3-A, the current Type A test interval of 120 months (i.e., 10 years) would be extended on a permanent basis to no longer than 15 years from the last Type A test. The current Type C test interval of 60 months for selected components would be extended on a performance basis to no longer than 75 months. Extensions of up to nine months for Types A, B and C tests are permissible only for non-routine emergent conditions.

The proposed interval extensions do not involve either a physical change to the plant or a change in the manner in which the plant is operated or controlled. The containment is designed to provide an essentially leak tight barrier against the uncontrolled release of radioactivity to the environment for postulated accidents. As such, the containment and the testing requirements invoked to periodically demonstrate the integrity of the containment exist to ensure the plant's ability to mitigate the consequences of an accident, and do not involve the prevention or identification of any precursors of an accident.

The change in Type A test frequency to once-per-fifteen-years, measured as an increase to the total integrated plant risk for those accident sequences influenced by Type A testing, based on the probabilistic risk assessment (PRA) is 4.98E-03 person-rem/year for Unit 1 and 4.67E-03 person-rem/year for Unit 2. Electric Power Research Institute (EPRI) Report No. 1009325, Revision 2-A states that a very small population dose is defined as an increase of less than 1.0 person-rem per year or less than 1 percent of the total population dose, whichever is less restrictive for the risk impact assessment of the extended ILRT intervals. This is consistent with the Nuclear Regulatory Commission (NRC) Final Safety Evaluation for NEI 94-01 and EPRI Report No. 1009325, Revision 2A. Moreover, the risk impact when compared to other severe accident risks is negligible. Therefore, the proposed extension does not involve a significant increase in the probability of an accident previously evaluated.

In addition, as documented in NUREG-1493, “Performance-Based Containment Leak-Test Program,” dated September 1995, Types B and C tests have identified a very large percentage of containment leakage paths, and the percentage of containment leakage paths that are detected only by Type A testing is very small. The BSEP Unit 1 and Unit 2 Type A test history supports this conclusion.

The integrity of the containment is subject to two types of failure mechanisms that can be categorized as: (1) Activity based, and (2) time based. Activity based failure mechanisms are defined as degradation due to system and/or component modifications or maintenance. Local leak rate test requirements and administrative controls such as configuration management and procedural requirements for system restoration ensure that containment integrity is not degraded by plant modifications or maintenance activities. The design and construction requirements of the containment combined with the containment inspections performed in accordance with American Society of Mechanical Engineers (ASME) Boiler and Pressure Vessel (B&PV) Code, Section XI, Rules for Inservice Inspection of Nuclear Power Plant Components, Containment Maintenance Rule Inspections, Containment Coatings Program and TS requirements serve to provide a high degree of assurance that the containment would not degrade in a manner that is detectable only by a Type A test (ILRT). Based on the above, the proposed test interval extensions do not significantly increase the consequences of an accident previously evaluated.

The proposed amendment also proposes administrative changes to the exceptions in Units 1 and 2 TS 5.5.12.c and f. TS exception 5.5.12.c reference[s] NEI 94-01 Revision 0 and TS exception 5.5.12.f reference[s] ANSI/ANS [American National Standards Institute/American Nuclear Society] 56.8-1994. This change proposes to update the referenced documents in these two TS exceptions to reflect the adoption of NEI 94-01, Revision 3-A and ANSI/ANS 56.8-2002, accordingly. This administrative change does not impact any accidents previously evaluated.

Therefore, the proposed changes do not result in a significant increase in the probability or consequences of an accident previously evaluated.

2. Does the proposed change create the possibility of a new or different kind of accident from any accident previously evaluated?

Response: No.

The proposed amendment to the BSEP Units 1 and 2 TS 5.5.12, “Primary Containment Leakage Rate Testing Program,” involves the extension of the BSEP, Units 1 and 2 Type A containment test interval to 15 years and the extension of the Type C test interval to 75 months. The containment and the testing requirements to periodically demonstrate the integrity of the containment exist to ensure the plant's ability to mitigate the consequences of an accident.

The proposed change does not involve a physical modification to the plant (i.e., no new or different type of equipment will be installed) nor does it alter the design, configuration, or change the manner in which the plant is operated or controlled beyond the standard functional capabilities of the equipment.

The proposed amendment also proposes administrative changes to the exceptions in Units 1 and 2 TS 5.5.12.c and f. TS exception 5.5.12.c reference[s] NEI 94-01 Revision 0 and TS exception 5.5.12.f reference[s] ANSI/ANS 56.8-1994. This change proposes to update the referenced documents in these two TS exceptions to reflect the adoption of NEI 94-01, Revision 3-A and ANSI/ANS 56.8-2002, accordingly. This administrative change to the references listed in TS 5.5.12.c and f, does not create the possibility of a new or different kind of accident from any accident previously evaluated.

Therefore, the proposed change does not create the possibility of a new or different kind of accident from any previously evaluated.

3. Does the proposed change involve a significant reduction in a margin of safety?

Response: No.

The proposed amendment to Unit 1 and Unit 2 TS 5.5.12 involves the extension of the BSEP Type A containment test interval to 15 years and the extension of the Type C to 75 months. This amendment does not alter the manner in which safety limits, limiting safety system set points, or limiting conditions for operation are determined. The specific requirements and conditions of the TS Containment Leak Rate Testing Program exist to ensure that the degree of containment structural integrity and leak-tightness that is considered in the plant safety analysis is maintained. The overall containment leak rate limit specified by TS is maintained.

The proposed change involves the extension of the interval between Type A containment leak rate tests and Type C tests for BSEP, Units 1 and 2. The proposed surveillance interval extension is bounded by the 15-year ILRT interval and the 75-month Type C test interval currently authorized within NEI 94-01, Revision 3-A. Industry experience supports the conclusion that Type B and C testing detects a large percentage of containment leakage paths and that the percentage of containment leakage paths that are detected only by Type A testing is small. The containment inspections performed in accordance with Option B to 10 CFR 50, Appendix J and the overlapping inspection activities performed as part of ASME Section Xl, and the TS serve to provide a high degree of assurance that the containment would not degrade in a manner that is detectable only by Type A testing. The combination of these factors ensures that the margin of safety in the plant safety analysis is maintained. The design, operation, testing methods and acceptance criteria for Types A, B, and C containment leakage tests specified in applicable codes and standards would continue to be met, with the acceptance of this proposed change, since these are not affected by changes to the Type A and Type C test intervals.

The proposed amendment also proposes administrative changes to the exceptions in Units 1 and 2 TS 5.5.12. Two exceptions listed in the Units 1 and 2 TS 5.5.12 contain references to revisions and years of the ANSI/ANS 56.8 and NEI 94-01. Units 1 and 2 TS 5.5.12 exception c references NEI 94-01, Revision 0 and Units 1 and 2 TS 5.5.12 exception f references ANSI/ANS 56.8-1994. This change proposes to update the referenced documents in these two TS exceptions to reflect the adoption of NEI 94-01, Revision 3-A and ANSI/ANS 56.8-2002, accordingly. This administrative change does not change how the unit is operated or maintained, thus there is no reduction in any margins of safety.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn B. Nolan, Deputy General Counsel, 550 South Tryon Street, M/C DEC45A, Charlotte, NC 28202.

NRC Branch Chief: Undine Shoop.

Duke Energy Progress, LLC, Docket Nos. 50-325 and 50-324, Brunswick Steam Electric Plant, Units 1 and 2, Brunswick County, North Carolina

Date of amendment request: March 4, 2019. A publicly-available version is in ADAMS under Accession No. ML19063B740.

Description of amendment request: The proposed amendments would modify Technical Specification Surveillance Requirements (SRs) 3.4.3.2 and 3.5.1.11 by replacing the current requirement to verify the safety relief valves (SRVs) open when manually actuated with an alternate requirement that verifies the SRVs are capable of being opened. Additionally, the proposed change would revise the frequency for performing these SRs to be in accordance with the Inservice Testing (IST) Program.

Basis for proposed no significant hazards consideration determination: As required by 10 CFR 50.91(a), the licensee has provided its analysis of the issue of no significant hazards consideration, which is presented below:

1. Does the proposed change involve a significant increase in the probability or consequences of an accident previously evaluated?

Response: No.

The proposed change does not involve a physical alteration of the plant (i.e., no new or different type of equipment will be installed). The proposed change revises SR 3.4.3.2 and SR 3.5.1.11 by replacing the current requirement to verify the SRVs open when manually actuated with an alternate requirement that verifies the SRVs are capable of being opened through a series of overlapping tests and requires the testing to be completed on a frequency in accordance with the IST Program. The proposed SR testing will continue to demonstrate proper SRV operation without the need for in-situ testing with reactor steam. This testing fully meets the requirements of the American Society of Mechanical Engineers (ASME) Code for Operation and Maintenance of Nuclear Power Plants (OM Code) for safety and relief valves. Performing testing in accordance with the IST Program retains appropriate legal control over the testing methodology and specified frequency, since performance is required and is governed by a code adopted into the regulation, i.e., 10 CFR 50.55a. Therefore, the proposed change does not adversely affect the ability of structures, systems and components (SSCs) to perform their intended safety function to mitigate the consequences of event. Further, the proposed change does not increase the types and the amounts of radioactive effluent that may be released, nor significantly increase individual or cumulative occupation/public radiation exposures.

Therefore, the proposed amendment does not involve a significant increase in the probability or consequences of an accident previously evaluated.

2. Does the proposed change create the possibility of a new or different kind of accident from any accident previously evaluated?

Response: No.

The proposed change revises SR 3.4.3.2 and SR 3.5.1.11 by replacing the current requirement to verify the SRVs open when manually actuated with an alternate requirement that verifies the SRVs are capable of being opened through a series of overlapping tests and updating the frequency to be in accordance with the IST Program. It does not require any modification to the plant and it does not alter the design configuration, or method of operation of plant equipment beyond its normal functional capabilities. The proposed change will not introduce failure modes that could result in a new accident, and the change does not alter assumptions made in the safety analysis.

Therefore, the proposed amendment does not create the possibility of a new or different kind of accident from any accident previously evaluated.

3. Does the proposed change involve a significant reduction in a margin of safety?

Response: No.

The proposed change revises SR 3.4.3.2 and SR 3.5.1.11 by replacing the current requirement to verify the SRVs open when manually actuated with an alternate requirement that verifies the SRVs are capable of being opened through a series of overlapping tests and updating the frequency to be in accordance with the IST Program. The proposed SR testing will continue to demonstrate proper SRV operation without the need for in-situ testing with reactor steam. It does not alter or exceed a design basis or safety limit. There is no change being made to safety analysis assumptions or the safety limits that would adversely affect plant safety as a result of the proposed change. Margins of safety are unaffected by the proposed change and the applicable requirements of 10 CFR 50.36(c)(3) will continue to be met.

Therefore, the proposed amendment does not result in a significant reduction in the margin of safety.

The NRC staff has reviewed the licensee's analysis and, based on this review, it appears that the three standards of 10 CFR 50.92(c) are satisfied. Therefore, the NRC staff proposes to determine that the amendment request involves no significant hazards consideration.

Attorney for licensee: Kathryn B. Nolan, Deputy General Counsel, 550 South Tryon Street, M/C DEC45A, Charlotte, NC 28202.

NRC Branch Chief: Undine Shoop.

Entergy Nuclear Operations, Inc., Docket No. 50-255, Palisades Nuclear Plant (PNP), Van Buren County, Michigan

Date of amendment request: March 8, 2019. A publicly available version is in ADAMS under Accession No. ML19067A004.

Description of amendment request: The proposed amendment would revise the full compliance date for the fire protection program transition license condition to allow an extension for the implementation of the remaining modifications necessary to achieve full compliance with 10 CFR 50.48(c).

Basis for proposed no significant hazards consideration determination: As required by 10 CFR 50.91(a), the licensee has provided its analysis of the issue of no significant hazards consideration, which is presented below:

1. Does the proposed change involve a significant increase in the probability or consequences of an accident previously evaluated?

Response: No.

The proposed change to the PNP [renewed facility operating license] RFOL to change the full compliance date for the fire protection program transition license condition to allow additional time for the implementation of the remaining modifications necessary to achieve full compliance with 10 CFR 50.48(c) is administrative in nature. This change does not alter accident analysis assumptions, add any initiators, or affect the function of plant systems or the manner in which systems are operated, maintained, modified, tested, or inspected. The proposed change does not require any plant modifications which affect the performance capability of the structures, systems, and components relied upon to mitigate the consequences of postulated accidents, and has no impact on the probability or consequences of an accident previously evaluated.

Therefore, this change does not involve a significant increase in the probability or consequences of an accident previously evaluated.

2. Does the proposed change create the possibility of a new or different kind of accident from any accident previously evaluated?

Response: No.

The proposed change to the PNP RFOL [Renewed Facility Operating License] to change the full compliance date for the fire protection program transition license condition to allow additional time for the implementation of the remaining modifications necessary to achieve full compliance with 10 CFR 50.48(c) is administrative in nature. This proposed change does not alter accident analysis assumptions, add any initiators, or affect the function of plant systems or the manner in which systems are operated, maintained, modified, tested, or inspected. The proposed change does not require any plant modifications which affect the performance capability of the structures, systems, and components relied upon to mitigate the consequences of postulated accidents and does not create the possibility of a new or different kind of accident from any accident previously evaluated.

Therefore, this change does not create the possibility of a new or different kind of accident from an accident previously evaluated.

3. Does the proposed change involve a significant reduction in a margin of safety?

Response: No.

The proposed change to the PNP RFOL to change the full compliance implementation date for the fire protection program transition license condition to allow additional time for implementation of the remaining modifications necessary to achieve full compliance with 10 CFR 50.48(c) is administrative in nature. Plant safety margins are established through limiting conditions for operation, limiting safety system settings, and safety limits specified in the technical specifications. Because there is no change to established safety margins as a result of this change, the proposed change does not involve a significant reduction in a margin of safety.

Therefore, this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Anna V. Jones, Senior Counsel, Entergy Services, Inc., 101 Constitution Avenue NW, Suite 200 East, Washington, DC 20001.

NRC Branch Chief: David J. Wrona.

Exelon Generation Company, LLC, Docket Nos. STN 50-456 and STN 50-457, Braidwood Station, Units 1 and 2, Will County, Illinois and Docket Nos. STN 50-454 and STN 50-455, Byron Station, Unit Nos. 1 and 2, Ogle County, Illinois

Date of amendment request: December 13, 2018, as supplemented by letter dated February 14, 2019. Publicly-available versions are in ADAMS under Accession Nos. ML18352B063 and ML19050A399, respectively.

Description of amendment request: The proposed amendment would revise the technical specifications to permit the use of risk-informed completion times in accordance with Technical Specification Task Force (TSTF)-505, Revision 2, “Provide Risk-Informed Extended Completion Times—RITSTF Initiative 4b,” which is Attachment 3 to TSTF letter dated July 2, 2018 (ADAMS Accession No. ML18183A493).

Basis for proposed no significant hazards consideration determination: As required by 10 CFR 50.91(a), the licensee has provided its analysis of the issue of no significant hazards consideration, which is presented below:

1. Does the proposed change involve a significant increase in the probability or consequences of an accident previously evaluated?

Response: No.

The proposed changes permit the extension of Completion Times provided the associated risk is assessed and managed in accordance with the NRC approved Risk-Informed Completion Time Program. The proposed changes do not involve a significant increase in the probability of an accident previously evaluated because the changes involve no change to the plant or its modes of operation. The proposed changes do not increase the consequences of an accident because the design-basis mitigation function of the affected systems is not changed and the consequences of an accident during the extended Completion Time are no different from those during the existing Completion Time.

Therefore, the proposed changes do not involve a significant increase in the probability or consequences of an accident previously evaluated.

2. Does the proposed change create the possibility of a new or different kind of accident from any accident previously evaluated?

Response: No.

The proposed changes do not change the design, configuration, or method of operation of the plant. The proposed changes do not involve a physical alteration of the plant (no new or different kind of equipment will be installed).

Therefore, the proposed changes do not create the possibility of a new or different kind of accident from any accident previously evaluated.

3. Does the proposed change involve a significant reduction in a margin of safety?

Response: No.

The proposed changes permit the extension of Completion Times provided that risk is assessed and managed in accordance with the NRC approved Risk-Informed Completion Time Program. The proposed changes implement a risk-informed configuration management program to assure that adequate margins of safety are maintained. Application of these new specifications and the configuration management program considers cumulative effects of multiple systems or components being out of service and does so more effectively than the current TS.

Therefore, the proposed changes do not involve a significant reduction in a margin of safety.

The NRC staff has reviewed the licensee's analysis and, based on this review, it appears that the three standards of 10 CFR 50.92(c) are satisfied. Therefore, the NRC staff proposes to determine that the requested amendments involve no significant hazards consideration.

Attorney for licensee: Tamra Domeyer, Associate General Counsel, Exelon Generation Company, LLC, 4300 Winfield Road, Warrenville, IL 60555.

NRC Branch Chief: David J. Wrona.

Exelon Generation Company, LLC, Docket Nos. STN 50-456 and STN 50-457, Braidwood Station, Units 1 and 2, Will County, Illinois and Docket Nos. STN 50-454 and STN 50-455, Byron Station, Unit Nos. 1 and 2, Ogle County, Illinois

Date of amendment request: January 31, 2019. A publicly-available version is in ADAMS under Accession No. ML19032A149.

Description of amendment request: The proposed amendment would revise technical specifications (TS) for inoperable snubbers by adding Limiting Condition for Operation (LCO) 3.0.9. The change is consistent with the NRC-approved Technical Specification Task Force (TSTF) Standard Technical Specifications Change Traveler, TSTF-372, “Addition of LCO 3.0.8, lnoperability of Snubbers.” The availability of this TS improvement was announced in the Federal Register on May 4, 2005 (70 FR 23252). Because Braidwood Station, Units 1 and 2, and Byron Station, Unit Nos. 1 and 2, already have a TS identified as LCO 3.0.8, adoption of TSTF-372 will be identified as LCO 3.0.9.

Basis for proposed no significant hazards consideration determination: As required by 10 CFR 50.91(a), the licensee has provided its analysis of the issue of no significant hazards consideration, which is presented below:

1. Does the proposed change involve a significant increase in the probability or consequences of an accident previously evaluated?

Response: No.

The proposed change allows a delay time before declaring supported Technical Specifications (TS) systems inoperable when the associated snubber(s) cannot perform its required safety function. Entrance into Actions or delaying entrance into Actions is not an initiator of any accident previously evaluated. Consequently, the probability of an accident previously evaluated is not significantly increased. The consequences of an accident while relying on the delay time allowed before declaring a TS supported system inoperable and taking its Conditions and Required Actions are no different than the consequences of an accident under the same plant conditions while relying on the existing TS supported system Conditions and Required Actions. Therefore, the consequences of an accident previously evaluated are not significantly increased by this change.

Therefore, this proposed change does not involve a significant increase in the probability or consequences of an accident previously evaluated.

2. Does the proposed change create the possibility of a new or different kind of accident from any accident previously evaluated?

Response: No.

The proposed change allows a delay time before declaring supported TS systems inoperable when the associated snubber(s) cannot perform its required safety function. The proposed change does not involve a physical alteration of the plant (no new or different type of equipment will be installed) or a change in the methods governing normal plant operation.

Therefore, the proposed change does not create the possibility of a new or different kind of accident from any accident previously evaluated.

3. Does the proposed change involve a significant reduction in a margin of safety?

Response: No.

The proposed change allows a delay time before declaring supported TS systems inoperable when the associated snubber(s) cannot perform its required safety function. The proposed change restores an allowance in the pre-Improved Standard Technical Specifications (ISTS) conversion TS that was unintentionally eliminated by the conversion. The pre-ISTS TS were considered to provide an adequate margin of safety for plant operation, as does the post-ISTS conversion TS.

Therefore, the proposed change does not involve a significant reduction in a margin of safety.

The NRC staff has reviewed the licensee's analysis and, based on this review, it appears that the three standards of 10 CFR 50.92(c) are satisfied. Therefore, the NRC staff proposes to determine that the requested amendments involve no significant hazards consideration.

Attorney for licensee: Tamra Domeyer, Associate General Counsel, Exelon Generation Company, LLC, 4300 Winfield Road, Warrenville, IL 60555.

NRC Branch Chief: David J. Wrona.

Florida Power and Light Company, Docket No. 50-250 and 50-251, Turkey Point Nuclear Generating Unit Nos. 3 and 4, Miami-Dade County, Florida

Date of amendment request: February 14, 2019. A publicly-available version is in ADAMS under Accession No. ML19045A617.

Description of amendment request: The amendments would revise the Technical Specifications (TS) related to certain equipment shared between the two units when one unit is shut down. Additionally, the amendments remove an inappropriate footnote that allows an exception from TS 4.0.4.

Basis for proposed no significant hazards consideration determination: As required by 10 CFR 50.91(a), the licensee has provided its analysis of the issue of no significant hazards consideration, which is presented below:

1. Does the proposed amendment involve a significant increase in the probability or consequences of an accident previously evaluated?

Response: No.

The technical specification requirements associated with the proposed change to the TS are not initiators of any accidents previously evaluated, so the probability of accidents previously evaluated is unaffected by the proposed change. The proposed change does not alter the design, function, or operation of any plant structure, system, or component (SSC). The capability of any operable TS-required SSC to perform its specified safety function is not impacted by the proposed change. As a result, the outcomes of accidents previously evaluated are unaffected. Therefore, the proposed change does not result in a significant increase in the probability or consequences of an accident previously evaluated.

2. Does the proposed amendment create the possibility of a new or different kind of accident from any accident previously evaluated?

Response: No.

The proposed change does not challenge the integrity or performance of any safety-related systems. No plant equipment is installed or removed, and the change does not alter the design, physical configuration, or method of operation of any plant SSC. No physical changes are made to the plant, so no new causal mechanisms are introduced. Therefore, the proposed change to the TS does not create the possibility of a new or different kind of accident from any accident previously evaluated. Therefore, the proposed change does not create the possibility of a new or different kind of accident from any previously evaluated.

3. Does the proposed amendment involve a significant reduction in a margin of safety?

Response: No.

The ability of any operable SSC to perform its designated safety function is unaffected by the proposed change. The proposed change does not alter any safety analyses assumptions, safety limits, limiting safety system settings, or method of operating the plant. The change does not adversely affect plant operating margins or the reliability of equipment credited in the safety analyses. Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Debbie Hendell, Managing Attorney—Nuclear, Florida Power & Light Company, 700 Universe Blvd. MS LAW/JB, Juno Beach, FL 33408-0420.

NRC Branch Chief: Undine Shoop.

Omaha Public Power District (OPPD) Docket No. 50-285, Fort Calhoun Station, Unit No. 1 (FCS), Fort Calhoun, Nebraska

Date of amendment request: February 28, 2019. A publicly-available version is in ADAMS under Accession No. ML19064A758.

Description of amendment request: The proposed amendment would replace the FCS Permanently Defueled Emergency Plan and associated Emergency Action Level (EAL) technical bases document with the Independent Spent Fuel Storage Installation Only Emergency Plan (IOEP) and its associated Independent Spent Fuel Storage Installation (ISFSI) EAL Technical Bases Document. The IOEP will be used at FCS during the period when all spent fuel is stored in the FCS ISFSI. This proposed change reflects the complete removal of all fuel from the spent fuel pool (SFP) and permits specific reductions in the size and makeup of the Emergency Response Organization due to the elimination of the remaining design basis accident related to spent fuel handling. OPPD expects that all spent fuel will be completely transferred to the ISFSI by the middle of 2020.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment would modify the FCS facility operating license by revising the emergency plan and EAL scheme. FCS has permanently ceased power operations and is permanently defueled. The proposed amendment is conditioned on all spent nuclear fuel being removed from wet storage in the SFP and placed in dry storage within the ISFSI. Occurrence of postulated accidents associated with spent fuel stored in a SFP is no longer credible in a SFP devoid of such fuel. The proposed amendment has no effect on plant systems, structures, or components (SSC) and no effect on the capability of any plant SSC to perform its design function. The proposed amendment would not increase the likelihood of the malfunction of any plant SSC. The proposed amendment would have no effect on any of the previously evaluated accidents in the FCS [Defueled Safety Analysis Report] DSAR.

Because FCS has permanently ceased power operations, the generation of fission products has ceased and the remaining source term continues to decay. This continues to significantly reduce the consequences of previously evaluated postulated accidents.

Therefore, the proposed change does not involve a significant increase in the probability or consequences of an accident previously evaluated.

2. Does the proposed amendment create the possibility of a new or different kind of accident from any accident previously evaluated?

Response: No.

The proposed amendment constitutes a revision of the emergency planning function commensurate with the ongoing and anticipated reduction in radiological source term at FCS.

The proposed amendment does not involve a physical alteration of the plant. No new or different types of equipment will be installed and there are no physical modifications to existing equipment as a result of the proposed amendment. Similarly, the proposed amendment would not physically change any SSC involved in the mitigation of any postulated accidents. Thus, no new initiators or precursors of a new or different kind of accident are created. Furthermore, the proposed amendment does not create the possibility of a new failure mode associated with any equipment or personnel failures. The credible events for the ISFSI remain unchanged.

Therefore, the proposed change does not create the possibility of a new or different kind of accident from any previously evaluated.

3. Does the proposed amendment involve a significant reduction in a margin of safety?

Response: No.

Because the 10 CFR part 50 license for FCS no longer authorizes operation of the reactor or emplacement or retention of fuel into the reactor vessel, as specified in 10 CFR 50.82(a)(2), the occurrence of postulated accidents associated with reactor operation is no longer credible. With all spent nuclear fuel transferred out of wet storage from the SFP and placed in dry storage within the ISFSI, a fuel handling accident is no longer credible. There are no credible events that would result in radiological releases beyond the site boundary exceeding the EPA PAG exposure levels, as detailed in the EPA's PAG Manual “Protective Action Guides and Planning Guidance for Radiological Incidents” dated January 2017 (EPA PAG Manual).

The proposed amendment does not involve a change in the plant's design, configuration, or operation. The proposed amendment does not affect either the way in which the plant SSCs perform their safety function or their design margins. Because there is no change to the physical design of the plant, there is no change to these margins.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Stephen M. Bruckner, Attorney, Fraser Stryker PC LLO, 500 Energy Plaza, 409 South 17th Street, Omaha, NE 68102.

NRC Branch Chief: Bruce A. Watson.

Pacific Gas and Electric Company, Docket Nos. 50-275 and 50-323, Diablo Canyon Nuclear Power Plant, Units 1 and 2 (DCPP), San Luis Obispo County, California

Date of amendment request: February 14, 2019. A publicly-available version is in ADAMS under Accession No. ML19045A698.

Description of amendment request: The proposed amendments would revise the intake structure physical security classification in the DCPP Security Plan and Emergency Plan.

Basis for proposed no significant hazards consideration determination: As required by 10 CFR 50.91(a), the licensee has provided its analysis of the issue of no significant hazards consideration, which is presented below:

1. Does the proposed change involve a significant increase in the probability or consequences of an accident previously evaluated?

Response: No.

The proposed changes to the Diablo Canyon Power [Nuclear] Plant (DCPP) emergency action levels (EALs) do not physically impact the plant structures, systems, or components (SSCs) or the manner in which SSCs perform their design function. The proposed changes neither adversely affect accident initiators or precursors, nor alter design assumptions. The proposed changes do not alter or prevent the ability of SSCs to perform their intended function to mitigate the consequences of an initiating event within assumed acceptance limits. No operating procedures or administrative controls that function to prevent or mitigate accidents are affected by the proposed changes. A concurrent accident with a hostile action is not assumed to occur.

Therefore, the proposed change does not involve a significant increase in the probability or consequences of an accident previously evaluated.

2. Does the proposed change create the possibility of a new or different accident from any accident previously evaluated?

Response: No.

The proposed changes do not involve a physical alteration of the plant (i.e., no new or different type of equipment will be installed or removed) or a change in the method of plant operation. The proposed changes will not introduce failure modes that could result in a new accident, and the change[s] [do] not alter assumptions made in the safety analysis. The proposed changes to the DCPP EALs are not initiators of any accidents.

Therefore, the proposed change does not create the possibility of a new or different accident from any accident previously evaluated.

3. Does the proposed change involve a significant reduction in a margin of safety?

Response: No.

Margin of safety is associated with the ability of the fission product barriers (i.e., fuel cladding, reactor coolant system pressure boundary, and containment structure) to limit the level of radiation dose to the public.

The proposed changes do not impact operation of the plant or its response to transients or accidents. The proposed changes do not affect the Technical Specifications or the Operating Licenses. The proposed changes do not involve a change in the method of plant operation, and no accident analyses will be affected by the proposed changes. Additionally, the proposed changes will not relax any criteria used to establish safety limits and will not relax any safety system settings. The safety analysis acceptance criteria are not affected by these changes. The proposed changes will not result in plant operation in a configuration outside the design basis. The proposed changes do not adversely affect systems that respond to safely shut down the plant and to maintain the plant in a safe shutdown condition. The Emergency Plan will continue to activate an emergency response commensurate with the extent of degradation of plant safety.

Therefore, the proposed change does not involve a significant reduction in a margin of safety.

The NRC staff has reviewed the licensee's analysis and, based on this review, it appears that the three standards of 10 CFR 50.92(c) are satisfied. Therefore, the NRC staff proposes to determine that the amendment requests involve no significant hazards consideration.

Attorney for licensee: Jennifer Post, Esq., Pacific Gas and Electric Company, P.O. Box 7442, San Francisco, CA 94120.

NRC Branch Chief: Robert J. Pascarelli.

Southern Nuclear Operating Company, Docket Nos. 52-025 and 52-026, Vogtle Electric Generating Plant Units 3 and 4, Burke County, Georgia

Date of amendment request: March 25, 2019. A publicly-available version is in ADAMS under Accession No. ML19084A309.

Description of amendment request: The requested amendment proposes to change the Technical Specifications (TS) (Combined License Appendix A), as well as plant-specific Tier 2 information. Specifically, the requested amendment proposes to change TS Sections 1.0, 3.1, 3.2, 3.3, 3.9, and 5.5. The Surveillance Requirements (SRs) requiring manual Channel Checks, Channel Operational Tests, Actuation Logic Tests and Actuation Logic Output Tests to be performed on Protection and Safety Monitoring System (PMS) components are proposed to be removed from the TSs. The approach for satisfying the reactor trip and engineered safety feature actuation system response time test SRs for the PMS racks is proposed to be changed.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not affect the safety limits as described in the plant-specific TS. In addition, the limiting safety system settings and limiting control settings continue to be met with the proposed changes to the plant-specific TS SRs. The proposed changes do not adversely affect the operation of any systems or equipment that initiate an analyzed accident or alter any structures, systems, and components (SSCs) accident initiator or initiating sequence of events.

The proposed changes do not result in any increase in probability of an analyzed accident occurring and maintain the initial conditions and operating limits required by the accident analysis, and the analyses of normal operation and anticipated operational occurrences, so that the consequences of postulated accidents are not changed.

Therefore, the requested amendment does not involve a significant increase in the probability or consequences of an accident previously evaluated.

2. Does the proposed amendment create the possibility of a new or different kind of accident from any accident previously evaluated?

Response: No.

The proposed changes do not affect the safety limits as described in the plant- specific TS. In addition, the limiting safety system settings and limiting control settings continue to be met with the proposed changes to the plant-specific TS limiting conditions for operation, applicability, actions, and SRs. The proposed changes do not affect the operation of any systems or equipment that may initiate a new or different kind of accident or alter any SSC such that a new accident initiator or initiating sequence of events is created.

These proposed changes do not adversely affect any other SSC design functions or methods of operation in a manner that results in a new failure mode, malfunction, or sequence of events that affect safety-related or nonsafety-related equipment. Therefore, this activity does not allow for a new fission product release path, result in a new fission product barrier failure mode, or create a new sequence of events that results in significant fuel cladding failures.

Therefore, the requested amendment does not create the possibility of a new or different kind of accident from any accident previously evaluated.

3. Does the proposed amendment involve a significant reduction in a margin of safety?

Response: No.

The proposed changes do not affect the safety limits as described in the plant- specific TS. In addition, the limiting safety system settings and limiting control settings continue to be met with the proposed changes to the plant-specific TS limiting conditions for operation, applicability, actions, and SRs. The proposed changes do not affect the initial conditions and operating limits required by the accident analysis, and the analyses of normal operation and anticipated operational occurrences, so that the acceptance limits specified in the Updated Final Safety Analysis Report (UFSAR) are not exceeded. The proposed changes satisfy the same safety functions in accordance with the same requirements as stated in the UFSAR. These changes do not adversely affect any design code, function, design analysis, safety analysis input or result, or design/safety margin.

No safety analysis or design basis acceptance limit/criterion is challenged or exceeded by the proposed changes, and no margin of safety is reduced.

Therefore, the requested amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Branch Chief: Jennifer L. Dixon-Herrity.

Susquehanna Nuclear, LLC, Docket Nos. 50-387 and 50-388, Susquehanna Steam Electric Station, Units 1 and 2, Luzerne County, Pennsylvania

Date of amendment request: March 28, 2019. A publicly-available version is in ADAMS under Accession No. ML19087A208.

Description of amendment request: The amendments would eliminate the second Completion Times from certain Technical Specifications (TSs). The second Completion Times limit the time allowed from discovery of failure to meet a limiting condition for operation (LCO) until the LCO is met. The proposed changes are consistent with previously NRC-approved Technical Specifications Task Force (TSTF) Traveler TSTF-439, Revision 2, “Eliminate Second Completion Times Limiting Time from Discovery of Failure to Meet an LCO.”

Basis for proposed no significant hazards consideration determination: As required by 10 CFR 50.91(a), the licensee has provided its analysis of the issue of no significant hazards consideration, which is presented below, with NRC staff edits in square brackets:

1. Does the proposed change involve a significant increase in the probability or consequences of an accident previously evaluated?

Response: No.

The proposed change eliminates second Completion Times from the TS. Completion Times are not an initiator to any accident previously evaluated. As a result, the probability of an accident previously evaluated is not affected. The consequences of an accident during the revised Completion Time are no different than the consequences of the same accident during the existing Completion Times. As a result, the consequences of an accident previously evaluated are not affected by this change. The proposed change does not alter or prevent the ability of structures, systems, or components from performing their intended function to mitigate the consequences of an initiating event within the assumed acceptance limits. The proposed change does not affect the source term, containment isolation, or radiological release assumptions used in evaluating the radiological consequences of an accident previously evaluated. Further, the proposed change does not increase the types or amounts of radioactive effluent that may be released offsite nor significant increase [in] individual or cumulative occupational/public radiation exposures. The proposed change is consistent with the safety analysis assumptions and resultant consequences.

Therefore, the proposed change does not involve a significant increase in the probability or consequences of an accident previously evaluated.

2. Does the proposed change create the possibility of a new or different kind of accident from any accident previously evaluated?

Response: No.

The proposed change does not involve a physical alteration of the plant (i.e., no new or different type of equipment will be installed) or a change in the methods governing normal plant operation. The proposed change does not alter any assumptions made in the safety analysis.

Therefore, the proposed change does not create the possibility of a new or different kind of accident from any accident previously evaluated.

3. Does the proposed change involve a significant reduction in a margin of safety?

Response: No.

The proposed change to delete the second Completion Times does not alter the manner in which safety limits, limiting safety system settings, or LCOs are determined. The safety analysis acceptance criteria are not affected by this change. The proposed change will not result in plant operation in a configuration outside of the design basis.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Damon D. Obie, Associate General Counsel, Talen Energy Supply, LLC, 835 Hamilton St., Suite 150, Allentown, PA 18101.

NRC Branch Chief: James G. Danna.

Tennessee Valley Authority, Docket Nos. 50-259, 50-260, and 50-296, Browns Ferry Nuclear Plant, Units 1, 2, and 3, Limestone County, Alabama

Date of amendment request: January 25, 2019. A publicly-available version is in ADAMS under Accession No. ML19031C826.

Description of amendment request: The amendments would replace existing technical specification (TS) requirements related to operations with a potential for draining the reactor vessel (OPDRV) with new requirements on reactor pressure vessel (RPV) water inventory control (WIC) to continue to protect Safety Limit 2.1.1.3. Safety Limit 2.1.1.3 requires reactor vessel water level to be greater than the top of active irradiated fuel.

Basis for proposed no significant hazards consideration determination: As required by 10 CFR 50.91(a), the licensee has provided its analysis of the issue of no significant hazards consideration, which is presented below:

1. Does the proposed amendment involve a significant increase in the probability or consequences of an accident previously evaluated?

Response: No.

The proposed change replaces existing TS requirements related to OPDRVs with new requirements on RPV WIC that will protect Safety Limit 2.1.1.3. Draining of RPV water inventory in Mode 4 (i.e., cold shutdown) and Mode 5 (i.e., refueling) is not an accident previously evaluated and, therefore, replacing the existing TS controls to prevent or mitigate such an event with a new set of controls has no effect on any accident previously evaluated. RPV water inventory control in Mode 4 or Mode 5 is not an initiator of any accident previously evaluated. The existing OPDRV controls or the proposed RPV WIC controls are not mitigating actions assumed in any accident previously evaluated.

The proposed change reduces the probability of an unexpected draining event (which is not a previously evaluated accident) by imposing new requirements on the limiting time in which an unexpected draining event could result in the reactor vessel water level dropping to the top of the active fuel (TAF). These controls require cognizance of the plant configuration and control of configurations with unacceptably short drain times.

These requirements reduce the probability of an unexpected draining event. The current TS requirements are only mitigating actions and impose no requirements that reduce the probability of an unexpected draining event.

The proposed change reduces the consequences of an unexpected draining event (which is not a previously evaluated accident) by requiring an Emergency Core Cooling System (ECCS) subsystem to be operable at all times in Modes 4 and 5. The current TS requirements do not require any water injection systems, ECCS or otherwise, to be Operable in certain conditions in Mode 5. The change in requirement from two ECCS subsystems to one ECCS subsystem in Modes 4 and 5 does not significantly affect the consequences of an unexpected draining event because the proposed Required Actions ensure equipment is available within the limiting drain time that is as capable of mitigating the event as the current requirements. The proposed controls provide escalating compensatory measures to be established as calculated drain times decrease, such as verification of a second method of water injection and additional confirmations that containment and/or filtration would be available if needed.

The proposed change reduces or eliminates some requirements that were determined to be unnecessary to manage the consequences of an unexpected draining event, such as automatic initiation of an ECCS subsystem and control room ventilation. These changes do not affect the consequences of any accident previously evaluated because a draining event in Modes 4 and 5 is not a previously evaluated accident and the requirements are not needed to adequately respond to a draining event.

Therefore, the proposed change does not involve a significant increase in the probability or consequences of an accident previously evaluated.

2. Does the proposed amendment create the possibility of a new or different kind of accident from any previously evaluated?

Response: No.

The proposed change replaces existing TS requirements related to OPDRVs with new requirements on RPV WIC that will protect Safety Limit 2.1.1.3. The proposed change will not alter the design function of the equipment involved. Under the proposed change, some systems that are currently required to be operable during OPDRVs would be required to be available within the limiting drain time or to be in service depending on the limiting drain time. Should those systems be unable to be placed into service, the consequences are no different than if those systems were unable to perform their function under the current TS requirements.

The event of concern under the current requirements and the proposed change is an unexpected draining event. The proposed change does not create new failure mechanisms, malfunctions, or accident initiators that would cause a draining event or a new or different kind of accident not previously evaluated or included in the design and licensing bases.

Therefore, the proposed change does not create the possibility of a new or different kind of accident from any previously evaluated.

3. Does the proposed amendment involve a significant reduction in a margin of safety?

Response: No.

The proposed change replaces existing TS requirements related to OPDRVs with new requirements on RPV WIC. The current requirements do not have a stated safety basis and no margin of safety is established in the licensing basis. The safety basis for the new requirements is to protect Safety Limit 2.1.1.3. New requirements are added to determine the limiting time in which the RPV water inventory could drain to the top of the fuel in the reactor vessel should an unexpected draining event occur. Plant configurations that could result in lowering the RPV water level to the TAF within one hour are now prohibited. New escalating compensatory measures based on the limiting drain time replace the current controls. The proposed TS establish a safety margin by providing defense-in-depth to ensure that the Safety Limit is protected and to protect the public health and safety. While some less restrictive requirements are proposed for plant configurations with long calculated drain times, the overall effect of the change is to improve plant safety and to add safety margin.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, 6A West Tower, Knoxville, TN 37902.

NRC Branch Chief: Undine Shoop.

Wolf Creek Nuclear Operating Corporation, Docket No. 50-482, Wolf Creek Generating Station, Unit 1, Coffey County, Kansas

Date of amendment request: February 25, 2019. A publicly-available version is in ADAMS under Accession No. ML19064A591.

Description of amendment request: The amendment would revise Technical Specification (TS) 3.6.3, “Containment Isolation Valves,” to remove use of a blind flange to meet Limiting Condition for Operation (LCO) 3.6.3, Required Action D.1. In addition, a change to Surveillance Requirement (SR) 3.6.3.1 is proposed to remove use of a blind flange.

Basis for proposed no significant hazards consideration determination: As required by 10 CFR 50.91(a), the licensee has provided its analysis of the issue of no significant hazards consideration, which is presented below:

1. Does the proposed change involve a significant increase in the probability or consequences of an accident previously evaluated?

Response: No.

The proposed changes to TS LCO 3.6.3 and SR 3.6.3.1 have no effect on the requirement for systems to be OPERABLE and have no effect on the application of TS actions. Since the proposed change does not significantly affect system OPERABILITY the proposed change will have no significant effect on the initiating events for accidents previously evaluated and will have no significant effect on the ability of the systems to mitigate accidents previously evaluated.

Therefore, it is concluded that this change does not involve a significant increase in the probability or consequences of an accident previously evaluated.

2. Does the proposed change create the possibility of a new or different kind of accident from any accident previously evaluated?

Response: No.

The proposed change to update the TS does not affect the design or function of any plant systems. The proposed change does not change the Operability requirements for plant systems or the actions taken when plant systems are not OPERABLE.

Therefore, it is concluded that this change does not create the possibility of a new or different kind of accident from any accident previously evaluated.

3. Does the proposed change involve a significant reduction in a margin of safety?

Response: No.

The proposed change updates TS LCO 3.6.3, Required Action D.1 to remove use of a blind flange. It does not result in changes in plant operation. The proposed change to SR 3.6.3.1 removes the use of a blind flange. As a result, plant safety is either improved or unaffected.

Therefore, it is concluded that this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jay Silberg, Esq., Pillsbury Winthrop Shaw Pittman LLP, 1200 17th Street NW, Washington, DC 20036.

NRC Branch Chief: Robert J. Pascarelli.

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-413 and 50-414, Catawba Nuclear Station, Units 1 and 2 (Catawba), York County, South Carolina

Duke Energy Carolinas, LLC, Docket Nos. 50-369 and 50-370, McGuire Nuclear Station, Units 1 and 2 (McGuire), Mecklenburg County, North Carolina

Duke Energy Progress, Inc., Docket No. 50-400; Shearon Harris Nuclear Power Plant, Unit 1 (Harris), Wake County, North Carolina

Duke Energy Progress, Inc., Docket No. 50-261, H. B. Robinson Steam Electric Plant, Unit No. 2 (Robinson), Darlington County, South Carolina

Date of amendment request: May 10, 2018.

Brief description of amendments: The amendments modified the Technical Specifications (TSs) for Catawba, McGuire, Harris, and Robinson. Specifically, ventilation system heaters will be removed from Catawba TSs 3.6.10, “Annulus Ventilation System (AVS)”; 3.7.10, “Control Room Area Ventilation System (CRAVS)”; 3.7.12, “Auxiliary Building Filtered Ventilation Exhaust System (ABFVES)”; 3.7.13, “Fuel Handling Ventilation Exhaust System (FHVES)”; 3.9.3, “Containment Penetrations”; 5.5.11, “Ventilation Filter Testing Program (VFTP)”; and 5.6.6, “Ventilation Systems Heater Report”; and McGuire TSs 3.6.10, “Annulus Ventilation System (AVS)”; 3.7.9, “Control Room Area Ventilation System (CRAVS)”; 5.5.11, “Ventilation Filter Testing Program (VFTP)”; and 5.6.6, “Ventilation Systems Heater Failure Report.” The specified relative humidity for charcoal testing in the ventilation system Surveillance Requirement (for Harris) and Ventilation Filter Testing Program (for Robinson) is revised from 70 percent to 95 percent and the ventilation system heaters will be removed from the Harris TSs ¾.7.6, “Control Room Emergency Filtration System”; ¾.7.7, “Reactor Auxiliary Building (RAB) Emergency Exhaust System”; and ¾.9.12, “Fuel Handling Building Emergency Exhaust System”; and Robinson TSs 3.7.11, “Fuel Building Air Cleanup System (FBACS),” and 5.5.11, “Ventilation Filter Testing Program (VFTP).” The proposed changes are consistent with Technical Specifications Task Force (TSTF) Traveler TSTF-522, “Revise Ventilation System Surveillance Requirements to Operate for 10 Hours per Month,” Revision 0. Additionally, an administrative error is being corrected in McGuire's TS 5.5.11, “Ventilation Filter Testing Program (VFTP).”

Date of issuance: April 18, 2019.

Effective date: As of the date of issuance and shall be implemented within 120 days of issuance.

Amendment Nos: 301/297 (Catawba), 313/292 (McGuire), 170 (Harris), and 262 (Robinson). A publicly-available version is in ADAMS under Accession No. ML19050A297; documents related to these amendments are listed in the Safety Evaluation enclosed with the amendments.

Facility Operating License Nos. NPF-35 and NPF-52 (Catawba), NPF-63 (Harris), NPF-9 and NPF-17 (McGuire), and DPR-23 (Robinson): The amendments revised the Facility Operating Licenses and Technical Specifications.

Date of initial notice in Federal Register: October 23, 2018 (83 FR 53511).

The Commission's related evaluation of the amendment is contained in a Safety Evaluation dated April 18, 2019.

No significant hazards consideration comments received: No.

Exelon Generation Company, LLC, Docket Nos. 50-317 and 50-318, Calvert Cliffs Nuclear Power Plant, Units 1 and 2, Calvert County, Maryland

Date of amendment request: April 20, 2018.

Brief description of amendments: The amendments revised the Calvert Cliffs Nuclear Power Plant, Units 1 and 2, Technical Specifications to remove an exception to the minimum education requirements for shift technical advisors. Specifically, Technical Specification Section 5.2.2.g.3 related to specific requirements for shift technical advisor personnel education and training has been deleted.

Date of issuance: April 19, 2019.

Effective date: As of the date of issuance and shall be implemented within 60 days of issuance.

Amendment Nos.: 329 (Unit 1); 307 (Unit 2). A publicly-available version is in ADAMS under Accession No. ML19053A588; documents related to these amendments are listed in the Safety Evaluation enclosed with the amendments.

Renewed Facility Operating License Nos. DPR-53 and DPR-69: The amendments revised the Renewed Facility Operating License and Technical Specifications.

Date of initial notice in Federal Register: July 3, 2018 (83 FR 31183).

The Commission's related evaluation of the amendments is contained in a Safety Evaluation dated April 19, 2019.

No significant hazards consideration comments received: No.

Exelon Generation Company, LLC, Docket No. 50-289, Three Mile Island Nuclear Station, Unit 1, Dauphin County, Pennsylvania

Date of amendment request: March 19, 2018, as supplemented by letters dated August 13, 2018, and November 20, 2018.

Brief description of amendment: The amendment revised the on-shift staffing and the emergency response organization in the site emergency plan for the post-shutdown and permanently defueled condition.

Date of issuance: April 18, 2019.

Effective date: Upon the licensee's submittal of the certifications required by 10 CFR 50.82(a)(1)(i) and (ii) and shall be implemented within 90 days of the effective date of the amendment, but may not exceed December 31, 2019.

Amendment No.: 296. A publicly-available version is in ADAMS under Accession No. ML19065A114; documents related to this amendment are listed in the Safety Evaluation enclosed with the amendment.

Renewed Facility Operating License No. DPR-50: The amendment revised the emergency plan.

Date of initial notice in Federal Register: July 17, 2018 (83 FR 33268). The supplemental letters dated August 13, 2018, and November 20, 2018, provided additional information that clarified the application, did not expand the scope of the application as originally noticed, and did not change the NRC staff's original proposed no significant hazards consideration determination as published in the Federal Register.

The Commission's related evaluation of the amendment is contained in a Safety Evaluation dated April 18, 2019.

No significant hazards consideration comments received: No.

Indiana Michigan Power Company, Docket Nos. 50-315 and 50-316, Donald C. Cook Nuclear Plant (CNP), Unit Nos. 1 and 2, Berrien County, Michigan

Date of amendment request: May 4, 2018.

Brief description of amendments: The amendments revised the CNP, Units 1 and 2, technical specification (TS) usage rules for completion times, limiting conditions for operation (LCOs), and surveillance requirements (SRs) based on Technical Specification Task Force (TSTF) Traveler TSTF-529, “Clarify Use and Application Rules,” Revision 4. Specifically, the licensee proposed changes to TS Section 1.3, “Completion Time,” and LCO 3.0.4 and SR 3.0.3 in TS Section 3.0, “Limiting Condition for Operation (LCO) Applicability.”

Date of issuance: April 10, 2019.

Effective date: As of the date of issuance and shall be implemented within 60 days of issuance.

Amendment Nos.: 344 (Unit 1) and 326 (Unit 2). A publicly-available version is in ADAMS under Accession No. ML19031B966; documents related to these amendments are listed in the Safety Evaluation enclosed with the amendments.

Facility Operating License Nos. DPR-58 and DPR-74: The amendments revised the Renewed Facility Operating Licenses and Technical Specifications.

Date of initial notice in Federal Register: July 17, 2018 (83 FR 33269).

The Commission's related evaluation of the amendment is contained in a Safety Evaluation dated April 10, 2019.

No significant hazards consideration comments received: No.

Northern States Power Company—Minnesota (NSPM), Docket No. 50-263, Monticello Nuclear Generating Plant, Wright County, Minnesota

Date of amendment request: November 12, 2018.

Brief description of amendment: The amendment revised the safety limit minimum critical power ratio for two recirculation loop and single recirculation loop operation. The amendment also revised Technical Specifications 2.1.1 and 5.6.3 to remove outdated and duplicate information.

Date of issuance: April 22, 2019.

Effective date: As of the date of issuance and shall be implemented prior to the startup from the spring 2019 refueling outage.

Amendment No.: 201. A publicly-available version is in ADAMS under Accession No. ML19074A269; documents related to this amendment are listed in the Safety Evaluation enclosed with the amendment.

Renewed Facility Operating License No. DPR-22. The amendment revised the Renewed Facility Operating License and Technical Specifications.

Date of initial notice in Federal Register: February 5, 2019 (84 FR 1803).

The Commission's related evaluation of the amendment is contained in a Safety Evaluation dated April 22, 2019.

No significant hazards consideration comments received: No.

Northern States Power Company—Minnesota, Docket Nos. 50-282 and 50-306, Prairie Island Nuclear Generating Plant, Units 1 and 2, Goodhue County, Minnesota

Date of amendment request: March 15, 2018, as supplemented by letter dated September 17, 2018.

Brief description of amendment: The amendments revised the technical specifications to adopt Technical Specifications Task Force (TSTF) Standard Technical Specifications (STS) Change Traveler TSTF-425, Revision 3, “Relocate Surveillance Frequencies to Licensee Control-RITSTF [Risk-Informed TSTF] Initiative 5b,” requiring future surveillance frequency changes to be made in accordance with NEI 04-10, an approved methodology.

Date of issuance: April 16, 2019.

Effective date: As of the date of issuance and shall be implemented within 120 days of issuance.

Amendment Nos.: 226—Unit 1; 214—Unit 2. A publicly-available version is in ADAMS under Accession No. ML19045A480; documents related to these amendments are listed in the Safety Evaluation enclosed with the amendments.

Renewed Facility Operating License Nos. DPR-42 and DPR-60: The amendments revised the Renewed Facility Operating Licenses and Technical Specifications.

Date of initial notice in Federal Register: May 22, 2018 (83 FR 23735). The supplemental letter dated September 17, 2018, provided additional information that clarified the application, did not expand the scope of the application as originally noticed, and did not change the staff's original proposed no significant hazards consideration determination as published in the Federal Register.

The Commission's related evaluation of the amendment is contained in a Safety Evaluation dated April 16, 2019.

No significant hazards consideration comments received: No.

PSEG Nuclear LLC and Exelon Generation Company, LLC, Docket Nos. 50-272 and 50-311, Salem Nuclear Generating Station, Unit Nos. 1 and 2, Salem County, New Jersey

Date of amendment request: June 29, 2018.

Brief description of amendments: The amendments deleted duplicative technical specification (TS) requirements for the refueling water storage tank in TS 3.1.2.6, “Borated Water Sources—Operating,” and revised TS 3.5.5, “Refueling Water Storage Tank,” to ensure compliance with assumptions used in the design-basis accident and containment response analyses and to make Salem Nuclear Generating Station, Unit Nos. 1 and 2, TS requirements for the refueling water storage tank, consistent with NUREG-1431, Revision 4, “Standard Technical Specifications—Westinghouse Plants.”

Date of issuance: April 11, 2019.

Effective date: As of the date of issuance and shall be implemented within 60 days from the date of issuance.

Amendment Nos.: 328 (Unit No. 1) and 309 (Unit No. 2). A publicly-available version is in ADAMS under Accession No. ML19077A336; documents related to these amendments are listed in the Safety Evaluation enclosed with the amendments.

Renewed Facility Operating License Nos. DPR-70 and DPR-75: The amendments revised the Renewed Facility Operating Licenses and Technical Specifications.

Date of initial notice in Federal Register: August 28, 2018 (83 FR 43907).

The Commission's related evaluation of the amendments is contained in a Safety Evaluation dated April 11, 2019.

No significant hazards consideration comments received: No.

South Carolina Electric & Gas Company, South Carolina Public Service Authority, Docket No. 50-395, Virgil C. Summer Nuclear Station, Unit No. 1, Fairfield County, South Carolina

Date of amendment request: December 12, 2018.

Brief description of amendment: The amendment removed an expired one-time extension to Technical Specification (TS) Surveillance Requirement 4.3.3.6 and removes the Index from the TSs, placing it under licensee control. These changes are administrative and non-technical.

Date of issuance: April 10, 2019.

Effective date: As of the date of issuance and shall be implemented within 90 days of issuance.

Amendment No.: 214. A publicly-available version is in ADAMS under Accession No. ML19074A222, documents related to this amendment are listed in the Safety Evaluation enclosed with the amendment.

Renewed Facility Operating License No. NPF-12: Amendment revised the Renewed Facility Operating License and the Technical Specifications.

Date of initial notice in Federal Register: January 30, 2019 (84 FR 495).

The Commission's related evaluation of the amendment is contained in a Safety Evaluation dated April 10, 2019.

No significant hazards consideration comments received: No.

Union Electric Company, Docket No. 50-483, Callaway Plant, Unit 1 (Callaway), Callaway County, Missouri

Date of amendment request: March 9, 2018, as supplemented by letters dated January 23, February 8, and March 7, 2019.

Brief description of amendment: The amendment added new Technical Specification (TS) 3.7.20, “Class 1E Electrical Equipment Air Conditioning (A/C) System,” to the Callaway TSs. New TS 3.7.20 includes (1) a Limiting Condition for Operation (LCO) statement, (2) an Applicability statement, during which the LCO must be met, (3) ACTIONS to be applied when the LCO is not met, including Conditions, Required Actions, and Completion Times, and (4) Surveillance Requirements with a specified Frequency to demonstrate that the LCO is met for the Class 1E Electrical Equipment A/C System trains at Callaway. The change enhanced the capability of one Class 1E electrical equipment A/C train to provide adequate area cooling for both trains of Class 1E electrical equipment during normal and accident conditions.

Date of issuance: April 18, 2019.

Effective date: As of the date of issuance and shall be implemented within 120 days from the date of issuance.

Amendment No.: 219. A publicly-available version is in ADAMS under Accession No. ML19073A001; documents related to this amendment are listed in the Safety Evaluation enclosed with the amendment.

Renewed Facility Operating License No. NPF-30: The amendment revised the Renewed Facility Operating License and Technical Specifications.

Date of initial notice in Federal Register: July 3, 2018 (83 FR 31194). The supplements dated January 23, February 8, and March 7, 2019, provided additional information that clarified the application, did not expand the scope of the application as originally noticed, and did not change the NRC staff's original proposed no significant hazards consideration determination as published in the Federal Register.

The Commission's related evaluation of the amendment is contained in a Safety Evaluation dated April 18, 2019.

No significant hazards consideration comments received: No.

Dated at Rockville, Maryland, this 29th day of April 2019.
For the Nuclear Regulatory Commission.
Kathryn M. Brock,
Deputy Director, Division of Operating Reactor Licensing, Office of Nuclear Reactor Regulation.

[FR Doc. 2019-08982 Filed 5-6-19; 8:45 am]

BILLING CODE 7590-01-P